DEPARTMENT OF COMMERCE

Census Bureau

Proposed Information Collection; Comment Request; Coverage Research Follow-up

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(C)(2)(A)).

DATES: Written comments must be submitted on or before September 19, 2003.

ADDRESSES: Direct all written comments to Diana Hynek, Departmental Paperwork Clearance Officer, Room 6625, 14th and Constitution Avenue, NW., Washington, DC 20230 (or via the Internet at dhynek@doc.gov).

FOR FURTHER INFORMATION CONTACT: Requests for additional information or copies of the information collection instruments and instructions should be directed to Frank Vitrano, U.S. Census Bureau, Building 2, Room 2012, Washington, DC 20233-9200, 301-763-3961.

SUPPLEMENTARY INFORMATION:

I. Abstract

Improved coverage (See Definition of Terms) is one of the four major goals for Census 2010. As part of the effort to meet this goal, the Census Bureau is planning a new operation as part of the 2004 Census Test that will be conducted in two sites—Queens, NY, and three rural counties in Georgia (Colquitt, Tift, and Thomas).

The Coverage Research Follow-up Operation (CRFU), which is intended to evaluate the effectiveness of new procedures for improving coverage and reducing duplication, will begin after data capture for the 2004 Census Test has begun. CRFU will gather information regarding the presentation of the residence rules instructions (See Definition of Terms) and the usefulness of the coverage questions (See Definition of Terms) as presented on the 2004 Census Test questionnaire. In addition, the CRFU results will provide the Census Bureau with the types of possible person duplicates (e.g., cases in which people have the same name but different addresses) that should be contacted in order to resolve residence status. Data from the CRFU operation are intended to help assure that the residence rules instructions and coverage questions are simple and easy to understand.

Approximately 25,000 households will be included in the universe for this operation. Approximately 10,000 households will be chosen based on responses to the 2004 Census Test coverage questions. These households will be drawn both from 2004 Census Test mail returns and the Non-response Follow-up (NRFU—See Definition of Terms) returns. In addition, about 15,000 households will be followed-up as a result of computer matching that identifies them as potential duplicates.

II. Method of Collection

After the 2004 Census Test data collection, the Census Bureau plans to evaluate the effectiveness of new procedures for improving coverage and reducing duplication. The two-part CRFU operation will attempt to:

1. Identify potential person and whole-household duplicates (See Definition of Terms) from data collected using the 2004 Census questionnaire,

2. Identify coverage problems from the sample of respondents who receive the follow-up questionnaire, and

3. Identify the reasons duplication and coverage problems occurred in the 2004 Census Test.

The Unduplication segment of CRFU will first computer match census data capture files against themselves in order to find potential duplicates. Some of these cases, which are either whole household or partial household duplicates, will be followed-up in the field. The whole household follow-up will be conducted by personal visits since many of these cases are expected to be the result of geocoding problems or form-delivery mix-ups.

Partial household cases will first be interviewed by telephone, and the Census Bureau will use a personal visit to attempt to resolve the “unable to contact” cases. The goal for the partial household cases is to attempt to determine which types can be easily and effectively solved using follow-up techniques.

The follow-up interview will be used to determine where the person or household should be counted using Census bureau residence rules guidelines.

The Coverage section of CRFU consists of a sample of the households that responded “yes” to the undercount or overcount questions (See Definition of Terms) as well as a sample of the households that answer “no” to the coverage questions. These households will be contacted either by telephone or personal visit, and the enumerator will conduct an interview using the Coverage Research Followup Questionnaire. The items included in this questionnaire will be probes that are intended to indicate whether respondents understood and properly applied the residence rules instructions included on the 2004 Census Test form (i.e., whether they included all the appropriate persons on their form, and excluded persons who should have been counted elsewhere).

The follow-up questionnaire section of the test will be conducted via telephone or by personal visit beginning in mid-June. Households that refuse to give information over the telephone and households that telephone interviewers are not able to reach will be selected for personal visits. Data gathered as a result of these interviews will be processed at the National Processing Center in Jeffersonville, Indiana.

Definition of Terms

Coverage—How well the Census Bureau counts people and housing units in the census.

Coverage Questions (2004 Census Test)—The undercount coverage question, which is intended to identify people who may have been missed, will ask the respondent if there is anyone other than the individuals already listed who sometimes lives or stays at this address. The overcount coverage question, which is intended to identify people who may have been misreported, asks whether individuals sometimes live or stay at some other place.

Non-response Follow-up (NRFU)—An operation developed to obtain completed questionnaires from housing units for which the Census Bureau did not receive a completed questionnaire in mail census areas (mailout/mailback, update/leave). Enumerators visit addresses to collect the information.

Residence Rules—Rules that respondents and the Census Bureau use to determine where people should be counted. They are meant to insure that everyone is counted once and in the right place. The 2004 Census Test questionnaire will include re-worded instructions to help respondents apply these rules.

Whole-household Duplicates—Everyone living at a specific address is counted more than once.

III. Data

OMB Number: None.

Form Numbers: None.

Type of Review: Regular.

Affected Public: Individuals or households.

Estimated Number of Respondents: 25,000.

Estimated Time Per Response: 18 minutes.

Estimated Total Annual Burden Hours: 7,500.

Estimated Total Annual Cost to the Public: There is no cost to respondents except for their time to respond.

Respondent Obligation: Mandatory.

Legal Authority: Title 13 of the United States Code, Sections 141 and 193.

IV. Request for Comments

Comments are invited on: (a) Whether the proposed collection of information is necessary for the proper performance of the functions of the agency, including whether the information shall have practical utility; (b) the accuracy of the agency's estimate of the burden (including hours and cost) of the proposed collection of collected; (c) ways to enhance the quality, utility, and clarity of the information to be collected; and (d) ways to minimize the burden of the collection of information on respondents, including through the use of automated collection techniques or other forms of information technology.

Comments submitted in response to this notice will summarized and/or included in the request for OMB approval of this information collection; they also will become a matter of public record.

Dated: July 15, 2003.
Gwellnar Banks,
Management Analyst, Office of the Chief Information Officer.

[FR Doc. 03-18407 Filed 7-18-03; 8:45 am]

BILLING CODE 3510-07-P